SECURITIES AND EXCHANGE COMMISSION

17 CFR Parts 240 and 249

[Release No. 34-67717A; File No. S7-42-10]

RIN 3235-AK85

Disclosure of Payments by Resource Extraction Issuers

AGENCY: Securities and Exchange Commission.

ACTION: Final rule; correction.

SUMMARY: This release makes a technical correction to Release No. 34-67717 (August 22, 2012), which adopted disclosure rules for resource extraction issuers and was published in the Federal Register on September 12, 2012 (77 FR 56365). We are correcting the release to include the text of a footnote that was omitted when published.

DATES: Effective Date: November 23, 2012.

FOR FURTHER INFORMATION CONTACT: Tamara Brightwell, Senior Special Counsel, or Eduardo Aleman, Special Counsel, Division of Corporation Finance, at 202-551-3290, Securities and Exchange Commission, 100 F Street NE., Washington, DC 20549.

SUPPLEMENTARY INFORMATION: We are making the following correction to Release No. 34-67717 (August 22, 2012), which was published in FR Doc. 2012-21155 and appeared on page 56365 of the Federal Register on September 12, 2012:

On page 56395, above the last line of the second column, the following footnote text is inserted: “471 See letters from Bon Secours, Calvert, CRS, Earthworks, EIWG, ERI, ERI 2, Global Financial 2, Global Witness 1, Greenpeace, HII, HURFOM 1, HURFOM 2, Newground, ONE, Oxfam 1, PGGM, PWYP 1, RWI 1, Sanborn, Sen. Cardin et al. 1, Sen. Cardin et al. 2, Sen. Levin 1, Soros 1, TIAA, USAID, USW, and WRI.”

Dated: November 19, 2012.
Elizabeth M. Murphy,
Secretary.

[FR Doc. 2012-28455 Filed 11-21-12; 8:45 am]

BILLING CODE 8011-01-P